NUCLEAR REGULATORY COMMISSION

[Docket No. 30-35594-CivP (EA 02-072), ASLBP No. 03-811-02-CivP]

Advanced Medical Imaging and Nuclear Services; Establishment of Atomic Safety and Licensing Board

Pursuant to delegation by the Commission dated December 29, 1972, published in the FR, 37 FR 28,710 (1972), and §§ 2.205, 2.700, 2.702, 2.714, 2.714a, 2.717, 2.721, and 2.772(j) of the Commission's regulations, all as amended, an Atomic Safety and Licensing Board is being established to preside over the following proceeding:

Advanced Medical Imaging and Nuclear Services, Easton, Pennsylvania; Order Imposing Civil Monetary Penalty.

This Board is being established pursuant to the request of Advanced Medical Imaging and Nuclear Services, for a hearing regarding an order issued by the NRC staff, dated February 19, 2003, entitled “Order Imposing Civil Monetary Penalty” (68 FR 10,040 (Mar. 3, 2003)).

The Board is comprised of the following administrative judges:

Thomas S. Moore, Chairman, Atomic Safety and Licensing Board Panel, U.S. Nuclear Regulatory Commission, Washington, DC 20555-0001.

Dr. Charles N. Kelber, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents and other materials shall be filed with the Panel Judges in accordance with 10 CFR 2.701.

Issued at Rockville, Maryland, this 8th day of April 2003.
G. Paul Bollwerk, III,
Chief Administrative Judge, Atomic Safety and Licensing Board Panel.

[FR Doc. 03-9025 Filed 4-11-03; 8:45 am]

BILLING CODE 7590-01-U